DEPARTMENT OF HEALTH AND HUMAN SERVICES

Announcement of Opportunity and Procedure To Submit Nominations for Nutrients of Interest for Dietary Reference Intake Reviews

AGENCY: Department of Health and Human Services, Office of the Secretary, Office of the Assistant Secretary for Health, Office of Disease Prevention and Health Promotion.

Authority: 42 U.S.C. 300u(a).

ACTION: Notice.

SUMMARY: The Dietary Reference Intake (DRI) Subcommittee, an entity within the federal Interagency Committee on Human Nutrition Research, has developed procedures jointly with its Canadian counterpart to allow interested parties to nominate nutrients for consideration for DRI review. This notice will serve to announce the opportunity to submit such information to the DRI Subcommittee as it considers updates for nutrients and food components that have previously been considered by Institute of Medicine DRI committees.

DATES: The DRI Subcommittee will accept nominations for consideration beginning April 29, 2013 through 11:59 p.m. EDT on July 31, 2013.

ADDRESSES: Nominations may be submitted by email in the required format and to the email addresses specified in the Dietary Reference Intakes page on the Web site: www.health.gov/DRI.

FOR FURTHER INFORMATION CONTACT: Yvonne Chow, Division of Nutrition Research Coordination, National Institute of Diabetes, Digestive and Kidney Diseases, National Institutes of Health; Room 624A, 6707 Democracy Blvd., Bethesda, MD 20817; Telephone: (301) 594-8821; Email: DRInominations@hhs.gov.

SUPPLEMENTARY INFORMATION: The DRI Subcommittee, in collaboration with its Canadian counterpart, has been responsible for prioritizing nutrients for federally-funded DRI reviews that establish nutrient reference values. Given the completion in 2011 of the most recent DRI review which was conducted by the Institute of Medicine at the National Academy of Sciences, the DRI Subcommittee is now considering future reviews. The increasingly broad range of uses of the DRIs warrants input to the DRI Subcommittee concerning nutrients of interest for such reviews. Input from all interested parties is welcome and may come from individuals and organizations external to the federal government as well as from federal agencies.

The opportunity to provide information is limited at this time to new reviews for nutrients and food components that have previously been considered by Institute of Medicine DRI committees. The nomination is to include a cover letter and a literature search. The requirements of the nomination package and the nomination procedures are specified in the Web site identified above in the ADDRESSES section, and interested persons should access the Web site to obtain specific instructions for the nomination. The nomination will be regarded as information for the DRI Subcommittee and is intended to assist only in informing planning activities; the submission of a nomination does not guarantee the initiation of a DRI review. Further, the opportunity to provide information should not be construed as a funding opportunity or grant program. Please note that proprietary or confidential information cannot be considered and should not be submitted.

Dated: April 24, 2013.
Howard K. Koh,
Assistant Secretary for Health.

[FR Doc. 2013-10054 Filed 4-29-13; 8:45 am]

BILLING CODE 4150-32-P